DEPARTMENT OF THE INTERIOR

National Park Service

[2280-665]

National Register of Historic Places; Notification of Pending Nominations and Related Actions

Nominations for the following properties being considered for listing or related actions in the National Register were received by the National Park Service before December 25, 2010. Pursuant to sections 60.13 or 60.15 of 36 CFR part 60, written comments are being accepted concerning the significance of the nominated properties under the National Register criteria for evaluation. Comments may be forwarded by United States Postal Service, to the National Register of Historic Places, National Park Service, 1849 C St., NW., MS 2280, Washington, DC 20240; by all other carriers, National Register of Historic Places, National Park Service,1201 Eye St., NW., 8th floor, Washington, DC 20005; or by fax, 202-371-6447. Written or faxed comments should be submitted by February 4, 2011.

Before including your address, phone number, e-mail address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

ARKANSAS

Desha County

Furr, Hubert & Ionia, House, 702 Desoto Ave., Arkansas City, 10001197

CALIFORNIA

Los Angeles County

Arroyo Seco Parkway Historic District, CA 110 from 4-Level Interchange in Los Angeles to East Glenarm St in Pasadena, Los Angeles, 10001198

Solano County

Dixon Carnegie Library, 135 E. B St., Dixon, 10001199

IDAHO

Idaho County

Tolo Lake, Tolo Lake Rd., Grangeville, 10001200

ILLINOIS

Cook County

Cermak, Anton, House, 2348 S. Millard, Chicago, 10001201

Jo Daviess County

Frentess, Henry N., Farmstead, 19140 US 20 W., East Dubuque, 10001202

IOWA

Adair County

Adair County Democrat—Adair County Free Press Building, 108 E. Iowa St., Greenfield, 10001203

Black Hawk County

Master Service Station, 500 Jefferson St., Waterloo, 10001204

Butler County

McBride, Charles H. & Theresa H., Bungalow, 127 E. Adair St., Shell Rock, 10001205

KANSAS

Greenwood County

Robertson House, 403 N. Plum, Eureka, 10001207

Johnson County

Broadmoor Ranch House Historic District, 6900-7017 W. 68th St., 6900-7001 W. 69th St., 6900-7019 W. 69th Terr., Overland Park, 10001208

Montgomery County

Ball, Charles M., House, 702 Spruce St., Coffeyville, 10001209

KANSAS

Shawnee County

Ritchie, John & Mary, House, 1116 SE. Madison St, Topeka, 10001210

MONTANA

Missoula County

Missoula Downtown Historic District (Boundary Increase—Decrease), (Missoula MPS) Higgins Ave. & Front St., Missoula, 10001206

OHIO

Champaign County

Kiser Mansion, 149 E. Main St, Saint Paris, 10001211

Geauga County

Pebblebrook Farm House and Gardens, 12525 Heath Rd., Chesterland, 10001212

Hamilton County

Kroger Barnes Graf, Gretchen, House, 9575 Cunningham Rd., Indian Hill, 10001213

Trumbull County

Chalker High School, 4432 OH 305, Southington, 10001214

OREGON

Lane County

McKenzie Highway Historic District, OR 242, Belknap Springs, 10001215

PUERTO RICO

Bayamon Municipality

Casa Dr. Agustin Stahl Stamm, 14 Jose Marti St., Bayamon, 10001216

Santa Isabel Municipality

Brumbaugh, Dr. Martin G., Graded School, (Early Twentieth Century Schools in Puerto Rico TR) 33 Eugenio M. de Hostos St., Santa Isabel, 10001217

RHODE ISLAND

Providence County

Church Hill Industrial District (Boundary Increase), 60 Dexter St., 125 Goff Ave., 265 Pine St., Pawtucket, 10001218

SOUTH CAROLINA

Aiken County

Oakland Plantation, 2930 Storm Branch Rd., Beech Island, 10001219

Richland County

Columbia Electric Street Railway, Light & Power Substation, 1337 Assembly St., Columbia, 10001220

TEXAS

Burnet County

Park Road 4 Historic District, Park Rd. 4 from US 281 to TX 29 & Longhorn Cavern State Park, Burnet, 10001221

Matagorda County

Blessing Masonic Lodge No. 411, 619 Ave. B/FM 616, Blessing, 10001222

Holman, Judge William Shields, House, 2504 Ave. K, Bay City, 10001223

Travis County

Norwood Tower, 114 W. 7th St., Austin, 10001224

WEST VIRGINIA

Fayette County

New Deal Resources in Hawk's Nest State Park Historic District, (New Deal Resources in West Virginia State Parks and Forests MPS) 49 Hawks Nest State Park Rd., Anstead, 10001225

Hardy County

New Deal Resources in Lost River State Park Historic District, (New Deal Resources in West Virginia State Parks and Forests MPS) 321 Park Dr., Mathais, 10001226

Pocahontas County

New Deal Resources in Watoga State Park Historic District, (New Deal Resources in West Virginia State Parks and Forests MPS) HC 82 (9 mi. SW. of WV 39), Marlinton, 10001227

Webster County

New Deal Resources in Holly River State Park Historic District, (New Deal Resources in West Virginia State Parks and Forests MPS) WV 20 (32 mi. S. of US 33), Hacker Valley, 10001228

WISCONSIN

Dodge County

Paramount Knitting Company Mill, 222 Madison St., Beaver Dam, 10001229

OTHER ACTIONS

Request for REMOVAL has been made for the following resources:

ARIZONA

Maricopa County

Archeological Site No. AZ U:10:61(ASM) Address Restricted, Mesa, 95000753

OREGON

Marion County

Breitenbush Guard Station, Willamette National Forest, Detroit, 86000843

[FR Doc. 2011-1092 Filed 1-19-11; 8:45 am]

BILLING CODE 4312-51-P